DEPARTMENT OF ENERGY

Federal Energy Regulatory Commission

Combined Notice of Filings #1

Take notice that the Commission received the following electric rate filings:

Docket Numbers: ER10-2302-011; ER19-2674-004.

Applicants: New Mexico PPA Corporation, Public Service Company of New Mexico.

Description: Supplement to Notice of Non-Material Change in Status of Public Service Company of New Mexico, et al.

Filed Date: 10/30/25.

Accession Number: 20251030-5322.

Comment Date: 5 p.m. ET 11/20/25.

Docket Numbers: ER20-391-016; ER21-2557-012; ER22-2662-012; ER22-2663-012; ER22-2664-012; ER23-1275-010; ER23-1276-010; ER23-1277-008; ER24-1276-006; ER24-1277-004; ER24-2249-008; ER24-2250-006; ER24-2251-007; ER24-2854-006; ER24-2855-006; ER24-2856-006; ER25-938-003; ER25-939-004; ER25-940-004; ER25-1422-003.

Applicants: Aron Energy Prepay 57 LLC, Aron Energy Prepay 53 LLC, Aron Energy Prepay 52 LLC, Aron Energy Prepay 51 LLC, Aron Energy Prepay 46 LLC, Aron Energy Prepay 45 LLC, Aron Energy Prepay 44 LLC, Aron Energy Prepay 43 LLC, Aron Energy Prepay 42 LLC, Aron Energy Prepay 41 LLC, Aron Energy Prepay 36 LLC, Aron Energy Prepay 35 LLC, Aron Energy Prepay 23 LLC, Aron Energy Prepay 22 LLC, Aron Energy Prepay 21 LLC, Aron Energy Prepay 16 LLC, Aron Energy Prepay 15 LLC, Aron Energy Prepay 14 LLC, Aron Energy Prepay 5 LLC, J. Aron & Company LLC.

Description: Notice of Non-Material Change in Status of J. Aron & Company LLC, et al.

Filed Date: 10/31/25.

Accession Number: 20251031-5416.

Comment Date: 5 p.m. ET 11/21/25.

Docket Numbers: ER25-1815-001.

Applicants: Public Service Company of New Mexico.

Description: Compliance filing: Compliance Filing Amendment to be effective 5/16/2025.

Filed Date: 11/10/25.

Accession Number: 20251110-5000.

Comment Date: 5 p.m. ET 12/1/25.

Docket Numbers: ER25-2430-002.

Applicants: Southwest Power Pool, Inc.

Description: Compliance filing: Compliance Filing—Revisions to Update Section 31.2d of the Tariff (RR 672) to be effective 8/4/2025.

Filed Date: 11/10/25.

Accession Number: 20251110-5036.

Comment Date: 5 p.m. ET 12/1/25.

Docket Numbers: ER25-3436-001.

Applicants: Bel Air Solar I, LLC.

Description: Tariff Amendment: Bel_Air_Solar_I_MBRA_App_Supp to be effective 11/16/2025.

Filed Date: 11/7/25.

Accession Number: 20251107-5199.

Comment Date: 5 p.m. ET 11/28/25.

Docket Numbers: ER26-427-000.

Applicants: Ratts 2 Solar LLC.

Description: Request for Limited and Prospective Waiver, et al. of Ratts 2 Solar LLC.

Filed Date: 11/4/25.

Accession Number: 20251104-5167.

Comment Date: 5 p.m. ET 11/28/25.

Docket Numbers: ER26-455-000.

Applicants: PJM Interconnection, L.L.C.

Description: § 205(d) Rate Filing: Periodic Review of Variable Resource Requirement Curve Shape and Key Parameters to be effective 1/23/2026.

Filed Date: 11/7/25.

Accession Number: 20251107-5201.

Comment Date: 5 p.m. ET 12/8/25.

Docket Numbers: ER26-456-000.

Applicants: Portland General Electric Company.

Description: § 205(d) Rate Filing: Fifth Amended and Restated Colstrip Transmission Agreement to be effective 12/10/2025.

Filed Date: 11/7/25.

Accession Number: 20251107-5202.

Comment Date: 5 p.m. ET 11/28/25.

Docket Numbers: ER26-457-000.

Applicants: CDH Vidal LLC.

Description: Initial Rate Filing: Application for Market-Based Rate to be effective 1/5/2026.

Filed Date: 11/7/25.

Accession Number: 20251107-5205.

Comment Date: 5 p.m. ET 11/28/25.

Docket Numbers: ER26-458-000.

Applicants: Pediment BESS I LLC.

Description: Initial Rate Filing: Market-Based Rate to be effective 1/5/2026.

Filed Date: 11/7/25.

Accession Number: 20251107-5211.

Comment Date: 5 p.m. ET 11/28/25.

Docket Numbers: ER26-459-000.

Applicants: Southwest Power Pool, Inc.

Description: § 205(d) Rate Filing: 4528 OPPD/Cancellation of 4065 Interim GIA to be effective 10/24/2025.

Filed Date: 11/10/25.

Accession Number: 20251110-5024.

Comment Date: 5 p.m. ET 12/1/25.

Docket Numbers: ER26-460-000.

Applicants: PJM Interconnection, L.L.C.

Description: § 205(d) Rate Filing: Original CSA Service Agreement No. 7765; MISO-J1263 to be effective 10/10/2025.

Filed Date: 11/10/25.

Accession Number: 20251110-5026.

Comment Date: 5 p.m. ET 12/1/25.

Docket Numbers: ER26-461-000.

Applicants: Southwest Power Pool, Inc.

Description: § 205(d) Rate Filing: 4529 OPPD GIA/Cancellation of 4063 Interim GIA to be effective 10/24/2025.

Filed Date: 11/10/25.

Accession Number: 20251110-5034.

Comment Date: 5 p.m. ET 12/1/25.

Docket Numbers: ER26-462-000.

Applicants: Southwest Power Pool, Inc.

Description: § 205(d) Rate Filing: 4530 OPPD GIA/Cancellation of 4064 Interim GIA to be effective 10/24/2025.

Filed Date: 11/10/25.

Accession Number: 20251110-5039.

Comment Date: 5 p.m. ET 12/1/25.

Docket Numbers: ER26-463-000.

Applicants: Southwest Power Pool, Inc.

Description: § 205(d) Rate Filing: 4531 OPPD GIA/Cancellation of 4066 Interim GIA to be effective 10/24/2025.

Filed Date: 11/10/25.

Accession Number: 20251110-5041.

Comment Date: 5 p.m. ET 12/1/25.

Docket Numbers: ER26-464-000.

Applicants: PJM Interconnection, L.L.C.

Description: § 205(d) Rate Filing: Original NUCRA n6260.1, Service Agreement No. 7772; MISO J1263 & J1464 to be effective 10/10/2025.

Filed Date: 11/10/25.

Accession Number: 20251110-5042.

Comment Date: 5 p.m. ET 12/1/25.

Docket Numbers: ER26-465-000.

Applicants: Southwest Power Pool, Inc.

Description: § 205(d) Rate Filing: 4532 OPPD GIA/Cancellation of 4067 Interim GIA to be effective 10/24/2025.

Filed Date: 11/10/25.

Accession Number: 20251110-5051.

Comment Date: 5 p.m. ET 12/1/25.

Docket Numbers: ER26-466-000.

Applicants: Southwest Power Pool, Inc.

Description: § 205(d) Rate Filing: 4533 OPPD GIA to be effective 10/27/2025.

Filed Date: 11/10/25.

Accession Number: 20251110-5056.

Comment Date: 5 p.m. ET 12/1/25.

Docket Numbers: ER26-467-000.

Applicants: Southwest Power Pool, Inc.

Description: § 205(d) Rate Filing: 4534 OPPD GIA to be effective 10/27/2025.

Filed Date: 11/10/25.

Accession Number: 20251110-5061.

Comment Date: 5 p.m. ET 12/1/25.

Docket Numbers: ER26-468-000.

Applicants: PacifiCorp.

Description: § 205(d) Rate Filing: Amended Surplus LGIA (SA No. 1106)_Rev 2 to be effective 11/11/2025.

Filed Date: 11/10/25.

Accession Number: 20251110-5083.

Comment Date: 5 p.m. ET 12/1/25.

Docket Numbers: ER26-469-000.

Applicants: Dodge Flat Energy Center, LLC.

Description: § 205(d) Rate Filing: Dodge Flat Energy Center, LLC—Application for Market-Based Rate Authorization to be effective 1/10/2026.

Filed Date: 11/10/25.

Accession Number: 20251110-5087.

Comment Date: 5 p.m. ET 12/1/25.

Docket Numbers: ER26-471-000.

Applicants: Midcontinent Independent System Operator, Inc.

Description: § 205(d) Rate Filing: 2025-11-10_SA 4588 Duke Energy-NIPSCO GIA (J3870) to be effective 10/31/2025.

Filed Date: 11/10/25.

Accession Number: 20251110-5100.

Comment Date: 5 p.m. ET 12/1/25.

Docket Numbers: ER26-472-000.

Applicants: PJM Interconnection, L.L.C.

Description: § 205(d) Rate Filing: Original NUCRA n7925.1, Service Agreement No. 7766; MISO J1626 & J1714 to be effective 10/9/2025.

Filed Date: 11/10/25.

Accession Number: 20251110-5117.

Comment Date: 5 p.m. ET 12/1/25.

Docket Numbers: ER26-473-000.

Applicants: Pixley Solar Energy Holdings LLC.

Description: Tariff Amendment: Notice of Cancellation of Market-Based Rate Tariff to be effective 12/31/2025.

Filed Date: 11/10/25.

Accession Number: 20251110-5120.

Comment Date: 5 p.m. ET 12/1/25.

Docket Numbers: ER26-474-000.

Applicants: Midcontinent Independent System Operator, Inc., Michigan Electric Transmission Company, LLC.

Description: § 205(d) Rate Filing: Michigan Electric Transmission Company, LLC submits tariff filing per 35.13(a)(2)(iii: 2025-11-10_SA 3132 METC-Wolverine T-T 3rd Rev Appendix to be effective 1/10/2026.

Filed Date: 11/10/25.

Accession Number: 20251110-5137.

Comment Date: 5 p.m. ET 12/1/25.

Docket Numbers: ER26-475-000.

Applicants: Midcontinent Independent System Operator, Inc.

Description: § 205(d) Rate Filing: 2025-11-10_SA 4589 NSP-NSP GIA (R1050) to be effective 10/31/2025.

Filed Date: 11/10/25.

Accession Number: 20251110-5148.

Comment Date: 5 p.m. ET 12/1/25.

Docket Numbers: ER26-477-000.

Applicants: PJM Interconnection, L.L.C.

Description: § 205(d) Rate Filing: Original CSA Service Agreement No. 7771; MISO-J1464 to be effective 10/10/2025.

Filed Date: 11/10/25.

Accession Number: 20251110-5163.

Comment Date: 5 p.m. ET 12/1/25.

Docket Numbers: ER26-478-000.

Applicants: PJM Interconnection, L.L.C.

Description: § 205(d) Rate Filing: Notice of Cancellation of GIA No. 7407; Project Identifier No. AF2-383 to be effective 1/10/2026.

Filed Date: 11/10/25.

Accession Number: 20251110-5172.

Comment Date: 5 p.m. ET 12/1/25.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, community organizations, Tribal members and others, access publicly available information and navigate Commission processes. For public inquiries and assistance with making filings such as interventions, comments, or requests for rehearing, the public is encouraged to contact OPP at (202) 502-6595 or OPP@ferc.gov.

Dated: November 10, 2025.
Carlos D. Clay,
Deputy Secretary.

[FR Doc. 2025-21727 Filed 12-1-25; 8:45 am]

BILLING CODE 6717-01-P